DEPARTMENT OF THE INTERIOR

National Park Service

[NPS-WASO-NRNHL-DTS#-31214; PPWOCRADI0, PCU00RP14.R50000]

National Register of Historic Places; Notification of Pending Nominations and Related Actions

AGENCY: National Park Service, Interior.

ACTION: Notice.

SUMMARY: The National Park Service is soliciting electronic comments on the significance of properties nominated before November 21, 2020, for listing or related actions in the National Register of Historic Places.

DATES: Comments should be submitted electronically by December 18, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before November 21, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Alameda County

Hotel Menlo, 344 13th St., Oakland, SG100005984

COLORADO

Bent County

Boggsville (Boundary Increase), 2 mi. south of Las Animas, east of CO 101, Las Animas vicinity, BC100005980

Gilpin County

Frontenac and Aduddell Mine Complex, (Mining Industry in Colorado, MPS), 0.25 mi. southwest of jct. of Church Placer and Pewabic Mountain Rds., Russell Gulch vicinity, MP100005981

ILLINOIS

Crawford County

Allen, Dr. Arthur W., Home, 11266 North Trimble Rd., Robinson, SG100005966

Douglas County

Henson House, 103 North Henson Rd., Villa Grove, SG100005967

Jersey County

Jerseyville First Presbyterian Church, 400 South State St., Jerseyville, SG100005968

Winnebago County

Rockford Woman's Club, 323 Park Ave., Rockford, SG100005971

MARYLAND

Frederick County

Ceres Bethel AME Church, Gapland Rd., approx. 2 mi. west of Burkittsville, Burkittsville vicinity, SG100005982

MICHIGAN

Wayne County

United States Postal Service Roosevelt Park Station, 1800 18th St., Detroit, SG100005983

NEW YORK

Madison County

Oneida Community Limited Administration Building, 181 Kenwood Ave., Oneida, SG100005960

Washington County

Greenwich District School No. 11, 4 Ryan Rd., Center Falls, SG100005961

NORTH CAROLINA

Granville County

Oxford Historic District (Boundary Increase and Decrease), (Granville County MPS), Roughly bounded by Alexander and Sunset Aves., 3rd, Belle, Broad, Cherry, College, Devin, Franklin, Front, Gilliam, Granville, Henderson, Hillsboro, Lanier, Main, New College, Raleigh, and West Sts., and Martin Luther King Jr. Blvd., Oxford, BC100005974

Hertford County

Winton Historic District, Roughly bounded by west side of North King St., north of Cross St., North Murfree, East Weaver, and West Jordan Sts., Winton, SG100005976

Surry County

Country Club Estates Historic District, Includes portions of Club View Dr., Country Club Rd., Fairway Ln., and Greenhill Rd., Mount Airy, SG100005977

Lebanon Hill Historic District, Roughly bounded by Howard, Mitchell, South, and Woodruff Sts., and the Mount Airy Historic District, Mount Airy, SG100005978

In the interest of preservation, a SHORTENED comment period has been requested for the following resource:

MARYLAND

Kent County

Piney Grove, 7281 Wilkins Ln., Chestertown, SG100005962

Comment period: 3 days

A request to move has been received for the following resource:

NORTH CAROLINA

Alamance County

Menagerie Carousel, Burlington City Park, South Main St., Burlington, MV82003420

Additional documentation has been received for the following resources:

COLORADO

Bent County

Boggsville (Additional Documentation), South of Las Animas on CO 101, Las Animas vicinity, AD86002841

ILLINOIS

Wayne County

Turney-Hall House (Additional Documentation), 502 SE 4th St., Fairfield, AD100002329

Will County

Plainfield Halfway House (Additional Documentation), 503 Main St., Plainfield, AD80001421

NORTH CAROLINA

Granville County

Oxford Historic District (Additional Documentation), (Granville County MPS), Roughly bounded by College, New College, Gilliam, Raleigh, Front, Broad, Goshen, and Hayes Sts., Oxford, AD88000403

Authority: Section 60.13 of 36 CFR part 60.

Dated: November 24, 2024.
Sherry A. Frear,
Chief, National Register of Historic Places/National Historic Landmarks Program.

[FR Doc. 2020-26616 Filed 12-2-20; 8:45 am]

BILLING CODE 4312-52-P